DEPARTMENT OF AGRICULTURE

Forest Service

Notice of Resource Advisory Committee Meeting

AGENCY: Modoc County Resource Advisory Committee, Alturas, California 96101, USDA Forest Service.

ACTION: Notice of meeting.

SUMMARY: Pursuant to the authorities in the Federal Advisory Committees Act (Pub. L. 92-463) and under the Secure Rural Schools and Community Self-Determination Act of 2000 (Pub. L. 110-343) the Modoc National Forest's Modoc County Resource Advisory Committee will meet Monday, February 22, 2010 and March 8, 2010 in Alturas, California 96101, for a business meeting. The meetings are open to the public.

SUPPLEMENTARY INFORMATION: The business meeting on February 22, and March 8, 2010 will begin at 4 p.m., at the Modoc National Forest Office, Conference Room, 800 West 12th St., Alturas, California 96101. Agenda topics will include reviewing project proposals and to conduct business that meet the intent of Public Law 110-343. Time will also be set aside for public comments at the beginning of the meeting.

FOR FURTHER INFORMATION CONTACT: Tom Hudson, Forest Supervisor and Designated Federal Officer, at (530) 233-8700; or Resource Advisory Committee Coordinator, Stephen Riley at (530) 233-8771.

Tom Hudson,
Forest Supervisor.

[FR Doc. 2010-2191 Filed 2-1-10; 8:45 am]

BILLING CODE P